DEPARTMENT OF HOMELAND SECURITY

Security of Aircraft and Safety of Passengers Transiting Denpesar, Bali, Indonesia

AGENCY: Department of Homeland Security.

ACTION: Notice.

SUMMARY: This document informs the public that the Department of Homeland Security (DHS) has determined that Bandara Ngurah Rai International Airport, Denespar, Bali, Indonesia, does not maintain and carry out effective security measures. Pursuant to this determination, the Department of Homeland Security is directing all U.S. and foreign air carriers (and their agents) providing service between the U.S. and Bandara Ngurah Rai International Airport to provide notice of this determination to any passenger purchasing a ticket for transportation between the United States and Bandara Ngurah Rai International Airport. DHS also is requiring that U.S. airports post a notice of the determination, in accordance with statutory requirements.

FOR FURTHER INFORMATION CONTACT: Richard H. Stein, General Manager, International, Transportation Security Administration, 601 South 12th Street, Arlington, VA 22202-4220, Telephone: (571) 227-2764, e-mail: Richard.Stein@dhs.gov.

Notice

Pursuant to 49 U.S.C. 44907(a), the Secretary of Homeland Security (the Secretary) is authorized to assess periodically the effectiveness of the security measures maintained by foreign airports that handle air carriers serving the United States or that may pose a “high risk of introducing danger to international air travel.” If the Secretary determines that a foreign airport does not maintain and carry out effective security measures, the Secretary is required to “notify the appropriate authorities of the government of the foreign country of the decision and recommend the steps necessary to bring the security measures up to the standard used * * * in making the assessment.” 49 U.S.C. 44907(c).

Further, the Secretary must: (a) Publish the identity of the foreign airport in the Federal Register, (b) post the identity of such airport at all U.S. airports that regularly provide scheduled air carrier operations, and (c) notify the news media of the identity of the airport. 49 U.S.C. 44907(d). In addition, the statute requires all air carriers providing service between the United States and the airport to provide written notice of the determination, either on or with the ticket, to all passengers purchasing transportation between the United States and the airport. 49 U.S.C. 44907(d)(1)(B).

On December 23, 2005, the Secretary of Homeland Security notified the Government of Indonesia that, under 49 U.S.C. 44907, he had determined that Bandara Ngurah Rai International Airport (DPS), Denpesar, Bali, Indonesia, did not maintain and carry-out effective security measures. He based the determination on Transportation Security Administration (TSA) assessments that security measures used at DPS did not meet the standards established by the International Civil Aviation Organization (ICAO).

The Department of Homeland Security (DHS) is issuing this document, pursuant to 49 U.S.C. 44907(d)(1), to inform the public of this determination. DHS directs that all U.S. airports with regularly scheduled air carrier operations prominently display a notice of the determination. Further, DHS is notifying the news media of this determination. In addition, as a result of this determination, 49 U.S.C. 44907(d)(1)(B) requires that each U.S. and foreign air carrier (and their agents) providing transportation between the United States and DPS provide notice of the Department's determination to each passenger buying a ticket for transportation between the United States and DPS, with such notice to be made by written material included on or with such ticket.

Dated: December 23, 2005.
Michael Chertoff,
Secretary.

[FR Doc. E6-523 Filed 1-18-06; 8:45 am]

BILLING CODE 4910-62-P